DEPARTMENT OF STATE

[Public Notice: 8793]

Determination under Section 107(a) of the William Wilberforce Trafficking Victims Protection Reauthorization Act of 2008

Pursuant to the authority vested in me by the President's September 20, 2010 delegation of the waiver function conferred in Section 107(a) of the William Wilberforce Trafficking Victims Protection Act of 2008 (Pub. L. 110-457), I hereby determine that a waiver of the application of clause (i) of Section 110(b)(2)(D) of the Trafficking Victims Protection Act of 2000, as amended (Pub. L. 106-386), is justified with respect to Angola, Bahrain, Belarus, Burma, Burundi, Comoros, Djibouti, Haiti, Kenya, Lebanon, Namibia, South Sudan, Suriname, and Turkmenistan.

This Determination shall be reported to Congress and published in the Federal Register.

John Kerry,
Secretary of State.

[FR Doc. 2014-16416 Filed 7-11-14; 8:45 am]

BILLING CODE 4710-17-P